SMALL BUSINESS ADMINISTRATION

[Disaster Declaration #18179 and #18180; Vermont Disaster Number VT-00049]

Administrative Disaster Declaration of a Rural Area for the State of Vermont

AGENCY: Small Business Administration.

ACTION: Amendment 1.

SUMMARY: This is an amendment of the Administrative disaster declaration of a rural area for the State of Vermont dated 09/14/2023.

Incident: Severe Storms, Flooding, Landslides, and Mudslides.

Incident Period: 07/07/2023 through 07/21/2023.

DATES: Issued on 09/25/2023.

Physical Loan Application Deadline Date: 11/13/2023.

Economic Injury (EIDL) Loan Application Deadline Date: 06/14/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the Administrator's disaster declaration of a rural area for the State of Vermont, dated 09/14/2023, is hereby amended to re-establish the incident period for this disaster as beginning 07/07/2023 and continuing through 07/21/2023.

All other information in the original declaration remains unchanged.

(Catalog of Federal Domestic Assistance Number 59008)

Isabella Guzman,
Administrator.

[FR Doc. 2023-21569 Filed 9-29-23; 8:45 am]

BILLING CODE 8026-09-P